DEPARTMENT OF HOMELAND SECURITY

Coast Guard

33 CFR Part 165

[Docket No. USCG-2023-0599]

Annual Events in the Captain of the Port Buffalo Zone—July and August 2023

AGENCY: Coast Guard, DHS.

ACTION: Notification of enforcement of regulation.

SUMMARY: The Coast Guard will enforce certain safety zones located in the federal regulations for Annual Events in the Captain of the Port Buffalo Zone. This action is necessary and intended to protect the safety of life and property on navigable waters prior to, during, and immediately after these events. During each enforcement period, no person or vessel may enter the respective safety zone without the permission of the Captain of the Port Buffalo or their designated representative.

DATES: The regulations in 33 CFR 165.939 as listed in table 165.939 will be enforced for the safety zones identified in the SUPPLEMENTARY INFORMATION section below for the dates and times specified.

FOR FURTHER INFORMATION CONTACT: If you have questions about this notification of enforcement, contact LT William Kelley, Chief of Waterways Management, Sector Buffalo, U.S. Coast Guard; telephone 716-843-9391, email D09-SMB-SECBuffalo-WWM@uscg.mil.

SUPPLEMENTARY INFORMATION: The regulations in 33 CFR 165.939 as listed in table 165.939 will be enforced for the safety zones identified below for the dates and times specified.

(1) Tonawanda's Canal Fest Fireworks, Tonawanda, NY; The safety zone listed in (b)(26) will be enforced on all waters of the East Niagara River within a 210-foot radius of land position 43°01′17.8″ N, 078°52′40.9″ W in Tonawanda, NY, from 9:15 p.m. through 10:05 p.m. on July 23, 2023.

(2) Oswego Harborfest, Oswego, NY; The safety zone listed in (b)(28) will be enforced on all waters within a 600-foot radius of positions 43°28.014′ N, 76°31.174″ W and 43°27.867′ N,76°31.446′ W along with a 350 foot radius of the break wall between positions 43°27′53.0″ N, 076°31′25.3″ W then Northeast to 43°27′58.6″ N, 076°31′12.1″ W, from 9:15 p.m. through 10:15 p.m. on July 29, 2023.

(3) Thunder on the Niagara Hydroplane Boat Races, North Tonawanda, NY; The safety zone listed in Table 165.939 (c)(4) as All U.S. waters of the Niagara River near the North Grand Island Bridge, encompassed by a line starting at 43°03′32.9″ N, 078°54′46.9″ W to 43°03′14.6″ N, 078°55′16.0″ W then to 43°02′39.7″ N, 078°54′13.1″ W then to 43°02′59.9″ N, 078°53′42.0″ W and returning to the point of origin will be enforced from 8:30 a.m. through 6:30 p.m. on August 5, 2023, and 8:30 a.m. through 6:30 p.m. on August 6, 2023.

This notice of enforcement is issued under authority of 33 CFR 165.939 and 5 U.S.C. 552(a). Pursuant to 33 CFR 165.23, entry into, transiting, or anchoring within these safety zones during an enforcement period is prohibited unless authorized by the Captain of the Port Buffalo or their designated representative; designation need not be in writing. Those seeking permission to enter these safety zones may request permission from the Captain of the Port Buffalo via channel 16, VHF-FM. Vessels and persons granted permission to enter the safety zone shall obey the directions of the Captain of the Port Buffalo or their designated representative. While within a safety zone, all vessels shall operate at the minimum speed necessary to maintain a safe course.

In addition to this notice of enforcement in the Federal Register, the Coast Guard will provide the maritime community with advance notification of the enforcement periods via Broadcast Notice to Mariners or other suitable means. If the Captain of the Port Buffalo determines that the safety zone need not be enforced for the full duration stated in this notice, they may use a Broadcast Notice to Mariners to grant general permission to enter the respective safety zone.

This notification is being issued by the Coast Guard Sector Buffalo Prevention Department Head at the direction of the Captain of the Port.

Dated: July 17, 2023.
Jeff B. Bybee,
Commander, U.S. Coast Guard, Sector Buffalo Prevention Department Head.

[FR Doc. 2023-15697 Filed 7-24-23; 8:45 am]

BILLING CODE 9110-04-P